ENVIRONMENTAL PROTECTION AGENCY

40 CFR Parts 19 and 27

[FRL-7231-7]

Civil Monetary Penalty Inflation Adjustment Rule

AGENCY: Environmental Protection Agency (EPA)

ACTION: Direct final rule.

SUMMARY: The Environmental Protection Agency (“EPA”) is taking direct final action on amending the final Civil Monetary Penalty Inflation Adjustment Rule as mandated by the Debt Collection Improvement Act of 1996 to adjust EPA's civil monetary penalties (“CMPs”) for inflation on a periodic basis. The Agency is required to review its penalties at least once every four years and to adjust them as necessary for inflation according to a specified formula. A complete version of Table 1 from the regulatory text, which lists all of the EPA's civil monetary penalty authorities, appears near the end of this document.

DATES: This rule is effective August 19, 2002 without further notice, unless EPA receives adverse comment by July 18, 2002. If we receive such comment, we will publish a timely withdrawal in the Federal Register informing the public that this rule will not take effect.

ADDRESSES: Mail written comments to the Enforcement & Compliance Docket and Information Center (2201A), Docket Number EC-2001-008, Office of Enforcement and Compliance Assurance, U.S. Environmental Protection Agency, 1200 Pennsylvania Avenue, NW., Mail Code 2201A, Washington, DC 20460 (in triplicate, if possible). Please use a font size no smaller than 12. Written comments may be delivered in person to: Enforcement and Compliance Docket Information Center, U.S. Environmental Protection Agency, Rm. 4033, Ariel Rios Bldg., 1200 Pennsylvania Avenue, NW., Washington, DC Comments may also be submitted electronically to docket.oeca@epa.gov or faxed to (202) 501-1011. Attach electronic comments as an ASCii (text) file, and avoid the use of special characters and any form of encryption. Be sure to include the docket number, EC-2001-008 on your document. Public comments, if any, may be reviewed at the Enforcement and Compliance Docket Information Center, U.S. Environmental Protection Agency, Rm. 4033, Ariel Rios Bldg., 1200 Pennsylvania Avenue, NW., Washington, DC. Persons interested in reviewing this docket may do so by calling (202) 564-2614 or (202) 564-2119.

FOR FURTHER INFORMATION CONTACT: David Abdalla, Office of Regulatory Enforcement, Multimedia Enforcement Division, Mail Code 2248A, 1200 Pennsylvania Avenue, NW, Washington, DC 20460, (202) 564-2413.

SUPPLEMENTARY INFORMATION:

Background

Pursuant to Section 4 of the Federal Civil Penalties Inflation Adjustment Act of 1990, 28 U.S.C. 2461 note, as amended by the Debt Collection Improvement Act of 1996, 31 U.S.C. 3701 note, (“DCIA”), each Federal agency is required to issue regulations adjusting for inflation the maximum civil monetary penalties that can be imposed pursuant to such agency's statutes. The purpose of these adjustments is to maintain the deterrent effect of CMPs and to further the policy goals of the laws. The DCIA requires adjustments to be made at least once every four years following the initial adjustment. The EPA's initial adjustment to each CMP was published in the Federal Register on December 31, 1996, at 61 FR 69360 and became effective on January 30, 1997.

This direct final rule adjusts the amount for each type of CMP that EPA has jurisdiction to impose in accordance with these statutory requirements. It does so by revising the table contained in 40 CFR 19.4. The table identifies the statutes that provide EPA with CMP authority and sets out the inflation-adjusted maximum penalty that EPA may impose pursuant to each statutory provision. This direct final rule also revises the effective date provisions of 40 CFR 19.2 to make the penalty amounts set forth set forth in 40 CFR 19.4 apply to all violations under the applicable statutes and regulations which occur after August 19, 2002 without further notice unless we receive adverse comment.

The DCIA requires that the adjustment reflect the percentage increase in the Consumer Price Index between June of the calendar year preceding the adjustment and June of the calendar year in which the amount was last set or adjusted. The DCIA defines the Consumer Price Index as the Consumer Price Index for all urban consumers published by the Department of Labor (“CPI-U”). As the initial adjustment was made and published on December 31, 1996, the inflation adjustment for the CMPs was calculated by comparing the CPI-U for June 1996 (156.7) with the CPI-U for June 2001 (178), resulting in an inflation adjustment of 13.6 percent. In addition, the DCIA's rounding rules require that an increase be rounded to the nearest multiple of: $10 in the case of penalties less than or equal to $100; $100 in the case of penalties greater than $100 but less than or equal to $1,000; $1,000 in the case of penalties greater than $1,000 but less than or equal to $10,000; $5,000 in the case of penalties greater than $10,000 but less than or equal to $100,000; $10,000 in the case of penalties greater than $100,000 but less than or equal to $200,000; and $25,000 in the case of penalties greater than $200,000.

The amount of each CMP was multiplied by 13.6 percent (the inflation adjustment) and the resulting increase amount was rounded up or down according to the rounding requirements of the statute. The increase amount is rounded using a rounding rule based on the amount of the increase. For example, for a CMP of $27,500, the increase of $3,740 would be rounded to the nearest multiple of $1000 resulting in a total increase of $4000. The table below shows the inflation-adjusted CMPs and includes only the CMPs as of the effective date of this rule. EPA intends to readjust these amounts in the year 2005 and every four years thereafter, assuming there are no further changes to the mandate imposed by the DCIA.

Administrative Requirements

EPA is publishing this rule without prior proposal because we view this as a noncontroversial amendment and anticipate no adverse comment. This rule incorporates requirements specifically set forth in the DCIA requiring EPA to issue a regulation implementing inflation adjustments for all its civil penalty provisions. These technical changes, required by law, do not substantively alter the existing regulatory framework nor in any way affect the terms under which civil penalties are assessed by EPA. In addition, EPA has made minor conforming changes to the regulations to reflect the effective date of the new rates prescribed by Congress which have no substantive effect.

The formula for the amount of the penalty adjustment is prescribed by Congress in the DCIA and these changes are not subject to the exercise of discretion by EPA. However the rounding requirement of the statute is subject to different interpretations and EPA has rounded based on the amount of the increase resulting from the CPI percentage calculation. This approach achieves the intent of the DCIA because a rounding rule based on the amount of the increase will result in increase amounts that more closely track the changes in the CPI and would steadily increase the amount of the CMPs over time in line with increases in the CPI. Calculations based on other interpretations of the rounding requirement could result in CMP adjustments that are either several times the CPI percentage or in no increase at all even with increases in the CPI.

In the “Proposed Rules” section of today's Federal Register publication, we are publishing a separate document that will serve as the proposal to adjust EPA's civil monetary penalties for inflation if adverse comments are filed. This rule will be effective on August 19, 2002 without further notice unless we receive adverse comment by July 18, 2002. If EPA receives adverse comment, we will publish a timely withdrawal in the Federal Register informing the public that the rule will not take effect. We will address all public comments in a subsequent final rule based on the proposed rule. We will not institute a second comment period on this action. Any parties interested in commenting must do so at this time.

Under Executive Order 12866, (58 FR 51,735 (October 4, 1993)) the Agency must determine whether the regulatory action is “significant” and therefore subject to OMB review and the requirements of the Executive Order. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this rule is not a “significant regulatory action” under the terms of Executive Order 12866, and is therefore not subject to review by the Office of Management and Budget.

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's rule contains no Federal mandates (under the regulatory provisions of Title II of the UMRA) for State, local, or tribal governments or the private sector because the rule implements mandate(s) specifically and explicitly set forth by the Congress without the exercise of any policy discretion by EPA. Thus, today's rule is not subject to the requirements of sections 202 and 205 of the UMRA. EPA has determined that this rule contains no regulatory requirements that might significantly or uniquely affect small governments.

Executive Order 13175, entitled Consultation and Coordination with Indian Tribal Governments (65 FR 67249, November 9, 2000), requires EPA to develop an accountable process to ensure “meaningful and timely input by tribal officials in the development of regulatory policies that have tribal implications.” As this direct final rule will not have substantial direct effects on tribal governments, on the relationship between the Federal government and Indian tribes, or on the distribution of power and responsibilities between the Federal government and Indian tribes, Executive Order 13175 does not apply to this rule.

Executive Order 13132, entitled Federalism (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This rule does not have federalism implications. It will not have substantial direct effects on the States, on the relationship between the national government and the States, or on the distribution of power and responsibilities among the various levels of government, as specified in executive Order 13132. Thus, Executive Order 13132 does not apply to this rule.

The Regulatory Flexibility Act, as amended by the Small Business Regulatory Enforcement Fairness Act of 1996 (SBREFA), 5 U.S.C. 601 et seq., generally requires an agency to prepare a regulatory flexibility analysis of any rule subject to notice and comment rulemaking requirements unless the agency certifies that the rule will not have a significant economic impact on a substantial number of small entities. Small entities include small businesses, small organizations, and small governmental jurisdictions. For purposes of assessing the impacts of today's rule on small entities, small entity is defined as (1) a small business; (2) a small governmental jurisdiction that is a government of a city, county, town school district or special district with a population of less than 50,000; and (3) a small organization that is any not-for-profit enterprise which is independently owned and operated and is not dominant in its field. This action will not have a significant impact on a substantial number of small entities for the following reasons: EPA is required by the DCIA to adjust civil monetary penalties for inflation. The formula for the amount of the penalty adjustment is prescribed by Congress and is not subject to the exercise of discretion by EPA. EPA's action implements this statutory mandate and does not substantively alter the existing regulatory framework. This rule does not affect mechanisms already in place, including statutory provisions and EPA policies, that address the special circumstances of small entities when assessing penalties in enforcement actions. EPA's media penalty policies generally take into account an entity's “ability to pay” in determining the amount of a penalty. In addition, entities may be affected by this rule only if the federal government finds them in violation and seeks monetary penalties. This would constitute a very small fraction of the universe of regulated facilities. Additionally, the final amount of any civil penalty assessed against a violator remains committed to the discretion of the Federal Judge or Administrative Law Judge hearing a particular case. Accordingly, although EPA cannot predict the precise impact on individual cases, the adjustment is likely to result in at most a relatively minor change to the actual penalties in cases affecting a small fraction of regulated entities. After considering the economic impacts of today's rule on small entities, I certify that this action will not have a significant economic impact on a substantial number of small entities.

Executive Order 13045, Protection of Children from Environmental health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency. EPA interprets Executive Order 13045 as applying only to those regulatory actions that are based on health or safety risks, such that the analysis required under section 5-501 of the Order has the potential to influence the regulation. This rule is not subject to Executive Order 13045 because it does not establish an environmental standard intended to mitigate health or safety risks. Because this action does not involve technical standards, EPA did not consider the use of any voluntary consensus standards under the National Technology Transfer and Advancement Act of 1995 (15 U.S.C. 272 note).

This action does not impose an information collection burden under the provisions of the Paperwork Reduction Act (44 U.S.C. 3501 et seq.) because it does not require persons to obtain, maintain, retain, report, or publicly disclose information to or for a Federal agency. Nor does it require any special considerations under Executive Order 12898, entitled Federal Actions to Address Environmental Justice in Minority Populations and Low-Income Populations (59 FR 7629, February 16, 1994). This action is not subject to Executive Order 13211, Actions Concerning Regulations That Significantly Affect Energy Supply, Distribution, or Use (66 FR 28355, May 22, 2001) because it is not a significant regulatory action under Executive Order 12866.

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). For the reasons outlined above, however, this action will take effect August 19, 2002.

List of Subjects

40 CFR Part 19

Environmental protection, Administrative practice and procedure, Penalties.

40 CFR Part 27

Administrative practice and procedure, Assessments, False claims, False statements, Penalties.

Dated: May 31, 2002.
Christine Todd Whitman,
Administrator, Environmental Protection Agency.

For the reasons set out in the preamble, title 40, chapter I of the Code of Federal Regulations is amended as follows:

1. Revise part 19 to read as follows:

PART 19—ADJUSTMENT OF CIVIL MONETARY PENALTIES FOR INFLATION

Sec.
19.1 Applicability.
19.2 Effective Date.
19.3 [Reserved]
19.4 Penalty adjustment and table.

Authority: Pub. L. 101-410, 28 U.S.C. 2461 note; Pub. L. 104-134, 31 U.S.C. 3701 note.

§ 19.1 Applicability.

This part applies to each statutory provision under the laws administered by the Environmental Protection Agency concerning the maximum civil monetary penalty which may be assessed in either civil judicial or administrative proceedings.

§ 19.2 Effective date.

The increased penalty amounts set forth in this part apply to all violations under the applicable statutes and regulations which occur after August 19, 2002.

§ 19.3 [Reserved]

§ 19.4 Penalty adjustment and table.

The adjusted statutory penalty provisions and their maximum applicable amounts are set out in Table 1. The last column in the table provides the newly effective maximum penalty amounts.

Table 1. Of Section 19.4.—Civil Monetary Penalty Inflation Adjustments
U.S. Code citation | Civil monetary penalty description | New maximum penalty amount (dollars)
7 U.S.C. 136l.(a)(1) | FEDERAL INSECTICIDE, FUNGICIDE, & RODENTICIDE ACT CIVIL PENALTY—GENERAL—COMMERCIAL APPLICATORS, ETC | 6,200
7 U.S.C. 136l.(a)(2) | FEDERAL INSECTICIDE, FUNGICIDE, & RODENTICIDE ACT CIVIL PENALTY—PRIVATE APPLICATORS—FIRST AND SUBSEQUENT OFFENSES OR VIOLATIONS | 630/1,300
15 U.S.C. 2615(a) | TOXIC SUBSTANCES CONTROL ACT CIVIL PENALTY | 31,500
15 U.S.C. 2647(a) | ASBESTOS HAZARD EMERGENCY RESPONSE ACT CIVIL PENALTY | 6,200
31 U.S.C. 3802(a)(1) | PROGRAM FRAUD CIVIL REMEDIES ACT/VIOLATION INVOLVING FALSE CLAIM | 6,200
31 U.S.C. 3802(a)(2) | PROGRAM FRAUD CIVIL REMEDIES ACT/VIOLATION INVOLVING FALSE STATEMENT | 6,200
33 U.S.C. 1319(d) | CLEAN WATER ACT VIOLATION/CIVIL JUDICIAL PENALTY | 31,500
33 U.S.C. 1319(g)(2)(A) | CLEAN WATER ACT VIOLATION/ADMINISTRATIVE PENALTY PER VIOLATION AND MAXIMUM | 12,000/31,500
33 U.S.C. 1319(g)(2)(B) | CLEAN WATER ACT VIOLATION/ADMINISTRATIVE PENALTY PER VIOLATION AND MAXIMUM | 12,000/157,500
33 U.S.C. 1321(b)(6)(B)(I) | CLEAN WATER ACT VIOLATION/ADMIN PENALTY OF SEC 311(b)(3) & (j) PER VIOLATION AND MAXIMUM | 12,000/31,500
33 U.S.C. 1321(b)(6)(B)(ii) | CLEAN WATER ACT VIOLATION/ADMIN PENALTY OF SEC 311(b)(3) & (j) PER VIOLATION AND MAXIMUM | 12,000/157,500
33 U.S.C. 1321(b)(7)(A) | CLEAN WATER ACT VIOLATION/CIVIL JUDICIAL PENALTY OF SEC 311(b)(3)—PER VIOLATION PER DAY OR PER BARREL OR UNIT | 31,500 or 1,300 per barrel or unit
33 U.S.C. 1321(b)(7)(B) | CLEAN WATER ACT VIOLATION/CIVIL JUDICIAL PENALTY OF SEC 311(c) & (e)(1)(B) | 31,500
33 U.S.C. 1321(b)(7)(C) | CLEAN WATER ACT VIOLATION/CIVIL JUDICIAL PENALTY OF SEC 311(j) | 31,500
33 U.S.C. 1321(b)(7)(D) | CLEAN WATER ACT VIOLATION/MINIMUM CIVIL JUDICIAL PENALTY OF SEC 311(b)(3)—PER VIOLATION OR PER BARREL/UNIT | 125,000 or 3,700 per barrel or unit
33 U.S.C. 1414b(d) | MARINE PROTECTION, RESEARCH & SANCTUARIES ACT VIOL SEC 104b(d) | 750
33 U.S.C. 1415(a) | MARINE PROTECTION RESEARCH AND SANCTUARIES ACT VIOLATIONS—FIRST & SUBSEQUENT VIOLATIONS | 62,000/157,500
42 U.S.C. 300g-3(b) | SAFE DRINKING WATER ACT/CIVIL JUDICIAL PENALTY OF SEC 1414(b) | 31,500
42 U.S.C. 300g-3(c) | SAFE DRINKING WATER ACT/CIVIL JUDICIAL PENALTY OF SEC 1414(c) | 31,500
42 U.S.C. 300g-3(g)(3)(A) | SAFE DRINKING WATER ACT/CIVIL JUDICIAL PENALTY OF SEC 1414(g)(3)(a) | 31,500
42 U.S.C. 300g-3(g)(3)(B) | SAFE DRINKING WATER ACT/MAXIMUM ADMINISTRATIVE PENALTIES PER SEC 1414(g)(3)(B) | 6,200/28,000
42 U.S.C. 300g-3(g)(3)(C) | SAFE DRINKING WATER ACT/THRESHOLD REQUIRING CIVIL JUDICIAL ACTION PER SEC 1414(g)(3)(C) | 28,000
42 U.S.C. 300h-2(b)(1) | SDWA/CIVIL JUDICIAL PENALTY/VIOLATIONS OF REQS—UNDERGROUND INJECTION CONTROL (UIC) | 31,500
42 U.S.C. 300h-2(c)(1) | SDWA/CIVIL ADMIN PENALTY/VIOLATIONS OF UIC REQS—PER VIOLATION AND MAXIMUM | 12,000/157,500
42 U.S.C. 300h-2(c)(2) | SDWA/CIVIL ADMIN PENALTY/VIOLATIONS OF UIC REQS—PER VIOLATION AND MAXIMUM | 6,200/157,500
42 U.S.C. 300h-3(c)(1) | SDWA/VIOLATION/OPERATION OF NEW UNDERGROUND INJECTION WELL | 6,200
42 U.S.C. 300h-3(c)(2) | SDWA/WILLFUL VIOLATION/OPERATION OF NEW UNDERGROUND INJECTION WELL | 12,000
42 U.S.C. 300i(b) | SDWA/FAILURE TO COMPLY WITH IMMINENT AND SUBSTANTIAL ENDANGERMENT ORDER | 17,000
42 U.S.C. 300i-1(c) | SDWA/ATTEMPTING TO OR TAMPERING WITH PUBLIC WATER SYSTEM/CIVIL JUDICIAL PENALTY | 25,000/62,000
42 U.S.C. 300j(e)(2) | SDWA/FAILURE TO COMPLY W/ORDER ISSUED UNDER SEC. 1441(c)(1) | 3,150
42 U.S.C. 300j-4(c) | SDWA/REFUSAL TO COMPLY WITH REQS. OF SEC. 1445(a) OR (b) | 31,500
42 U.S.C. 300j-6(b)(2) | SDWA/FAILURE TO COMPLY WITH ADMIN. ORDER ISSUED TO FEDERAL FACILITY | 28,000
42 U.S.C. 300j-23(d) | SDWA/VIOLATIONS/SECTION 1463(b)—FIRST OFFENSE/REPEAT OFFENSE | 6,200/62,000
42 U.S.C. 4852d(b)(5) | RESIDENTIAL LEAD-BASED PAINT HAZARD REDUCTION ACT OF 1992, SEC 1018—CIVIL PENALTY | 12,000
42 U.S.C. 4910(a)(2) | NOISE CONTROL ACT OF 1972—CIVIL PENALTY | 12,000
42 U.S.C. 6928(a)(3) | RESOURCE CONSERVATION & RECOVERY ACT/VIOLATION SUBTITLE C ASSESSED PER ORDER | 31,500
42 U.S.C. 6928(c) | RES. CONS. & REC. ACT/CONTINUED NONCOMPLIANCE OF COMPLIANCE ORDER | 31,500
42 U.S.C. 6928(g) | RESOURCE CONSERVATION & RECOVERY ACT/VIOLATION SUBTITLE C | 31,500
42 U.S.C. 6928(h)(2) | RES. CONS. & REC. ACT/NONCOMPLIANCE OF CORRECTIVE ACTION ORDER | 31,500
42 U.S.C. 6934(e) | RES. CONS. & REC. ACT/NONCOMPLIANCE WITH SECTION 3013 ORDER | 6,200
42 U.S.C. 6973(b) | RES. CONS. & REC. ACT/VIOLATIONS OF ADMINISTRATIVE ORDER | 6,200
42 U.S.C. 6991e(a)(3) | RES. CONS. & REC. ACT/NONCOMPLIANCE WITH UST ADMINISTRATIVE ORDER | 31,500
42 U.S.C. 6991e(d)(1) | RES. CONS. & REC. ACT/FAILURE TO NOTIFY OR FOR SUBMITTING FALSE INFORMATION | 12,000
42 U.S.C. 6991e(d)(2) | RCRA/VIOLATIONS OF SPECIFIED UST REGULATORY REQUIREMENTS | 12,000
42 U.S.C. 6992d(a)(2) | RCRA/NONCOMPLIANCE W/MEDICAL WASTE TRACKING ACT ASSESSED THRU ADMIN ORDER | 31,500
42 U.S.C. 6992d(a)(4) | RCRA/NONCOMPLIANCE W/MEDICAL WASTE TRACKING ACT ADMINISTRATIVE ORDER | 31,500
42 U.S.C. 6992d(d) | RCRA/VIOLATIONS OF MEDICAL WASTE TRACKING ACT—JUDICIAL PENALTIES | 31,500
42 U.S.C. 7413(b) | CLEAN AIR ACT/VIOLATION/OWNERS & OPERATORS OF STATIONARY AIR POLLUTION SOURCES—JUDICIAL PENALTIES | 31,500
42 U.S.C. 7413(d)(1) | CLEAN AIR ACT/VIOLATION/OWNERS & OPERATORS OF STATIONARY AIR POLLUTION SOURCES—ADMINISTRATIVE PENALTIES PER VIOLATION & MAX | 31,500/250,000
42 U.S.C. 7413(d)(3) | CLEAN AIR ACT/MINOR VIOLATIONS/STATIONARY AIR POLLUTION SOURCES—FIELD CITATIONS | 6,200
42 U.S.C. 7524(a) | TAMPERING OR MANUFACTURE/SALE OF DEFEAT DEVICES IN VIOLATION OF 7522(a)(3)(A) OR (a)(3)(B)—BY PERSONS | 3,150
42 U.S.C. 7524(a) | VIOLATION OF 7522(a)(3)(A) OR (a)(3)(B)—BY MANUFACTURERS OR DEALERS; ALL VIOLATIONS OF 7522(a)(1), (2), (4), & (5) BY ANYONE | 31,500
42 U.S.C. 7524(c) | ADMINISTRATIVE PENALTIES AS SET IN 7524(a) & 7545(d) WITH A MAXIMUM ADMINISTRATIVE PENALTY | 250,000
42 U.S.C. 7545(d) | VIOLATIONS OF FUELS REGULATIONS | 31,500
42 U.S.C. 9604(e)(5)(B) | SUPERFUND AMEND. & REAUTHORIZATION ACT/NONCOMPLIANCE W/REQUEST FOR INFO OR ACCESS | 31,500
42 U.S.C. 9606(b)(1) | SUPERFUND/WORK NOT PERFORMED W/IMMINENT, SUBSTANTIAL ENDANGERMENT | 31,500
42 U.S.C. 9609(a) & (b) | SUPERFUND/ADMIN. PENALTY VIOLATIONS UNDER 42 U.S.C. SECT. 9603, 9608, OR 9622 | 31,500
42 U.S.C. 9609(b) | SUPERFUND/ADMIN. PENALTY VIOLATIONS—SUBSEQUENT | 92,500
42 U.S.C. 9609(c) | SUPERFUND/CIVIL JUDICIAL PENALTY/VIOLATIONS OF SECT. 9603, 9608, 9622 | 31,500
42 U.S.C. 9609(c) | SUPERFUND/CIVIL JUDICIAL PENALTY/SUBSEQUENT VIOLATIONS OF SECT. 9603, 9608, 9622 | 92,500
42 U.S.C. 11045(a) & (b)(1), (2) & (3) | EMERGENCY PLANNING AND COMMUNITY RIGHT-TO-KNOW ACT CLASS I & II ADMINISTRATIVE AND CIVIL PENALTIES | 31,500
42 U.S.C. 11045(b)(2) & (3) | EPCRA CLASS I & II ADMINISTRATIVE AND CIVIL PENALTIES—SUBSEQUENT VIOLATIONS | 92,500
42 U.S.C. 11045(c)(1) | EPCRA CIVIL AND ADMINISTRATIVE REPORTING PENALTIES FOR VIOLATIONS OF SECTIONS 11022 OR 11023 | 31,500
42 U.S.C. 11045(c)(2) | EPCRA CIVIL AND ADMINISTRATIVE REPORTING PENALTIES FOR VIOLATIONS OF SECTIONS 11021 OR 11043(b) | 12,000
42 U.S.C. 11045(d)(1) | EPCRA—FRIVOLOUS TRADE SECRET CLAIMS—CIVIL AND ADMINISTRATIVE PENALTIES | $31,500

PART 27—[AMENDED]

2. The authority citation for part 27 continues to read as follows:

Authority: 31 U.S.C. 3801-3812; Pub. L. 101-410, 104 Stat. 890, 28 U.S.C. 2461 note; Pub L. 104-134, 110 Stat. 1321, 31 U.S.C. 3701 note.

3. Section 27.3 is amended by revising paragraphs (a)(1)(iv) and (b)(1)(ii) to read as follows:

§ 27.3 Basis for civil penalties and assessments.

(a) * * *

(1) * * *

(iv) Is for payment for the provision of property or services which the person has not provided as claimed, shall be subject, in addition to any other remedy that may be prescribed by law, to a civil penalty of not more than $6,200 ¹ for each such claim.

* * * * *

(b) * * *

(1) * * *

(ii) Contains, or is accompanied by, an express certification or affirmation of the truthfulness and accuracy of the contents of the statement, shall be subject, in addition to any other remedy that may be prescribed by law, to a civil penalty of not more than $6,200 ² for each such statement.

¹ As adjusted in accordance with the Federal Civil Penalties Inflation Adjustment Act of 1990 (Pub. L. 101-410, 104 Stat. 890), as amended by the Debt Collection Improvement Act of 1996 (Pub. L. 104-134, 110 Stat. 1321).

² As adjusted in accordance with the Federal Civil Penalties Inflation Adjustment Act of 1990 (Pub. L. 101-410, 104 Stat. 890), as amended by the Debt Collection Improvement Act of 1996 (Pub. L. 104-134, 110 Stat. 1321).

* * * * *

[FR Doc. 02-15190 Filed 6-17-02; 8:45 am]

BILLING CODE 6560-50-P